DEPARTMENT OF COMMERCE

Foreign-Trade Zones Board

[B-06-2019]

Proposed Foreign-Trade Zone—Grand Junction, Colorado Under Alternative Site Framework

An application has been submitted to the Foreign-Trade Zones (FTZ) Board by the Grand Junction Area Chamber of Commerce to establish a foreign-trade zone in the Grand Junction, Colorado area, under the alternative site framework (ASF) adopted by the FTZ Board (15 CFR Sec. 400.2(c)). The ASF is an option for grantees for the establishment or reorganization of zones and can permit significantly greater flexibility in the designation of new “subzones” or “usage-driven” FTZ sites for operators/users located within a grantee's “service area” in the context of the FTZ Board's standard 2,000-acre activation limit for a zone project. The proposed zone would be adjacent to the proposed U.S. Customs and Border Protection (CBP) user fee airport at the Grand Junction Regional Airport, which currently has received preliminary approval from CBP. The application was submitted pursuant to the provisions of the Foreign-Trade Zones Act, as amended (19 U.S.C. 81a-81u), and the regulations of the Board (15 CFR part 400). It was formally docketed on February 21, 2019. The applicant is authorized to make the proposal under Title 7, Article 49.5 of the Colorado Revised Statutes.

The applicant's proposed service area under the ASF would be Delta, Garfield and Mesa Counties, Colorado in their entirety and portions of Montrose and Rio Blanco Counties, Colorado, as described in the application. If approved, the applicant would be able to serve sites throughout the service area based on companies' needs for FTZ designation. The proposed service area would be within and adjacent to the proposed Grand Junctional Regional Airport CBP user fee airport.

The application indicates a need for zone services in the Grand Junction, Colorado area. Several firms have indicated an interest in using zone procedures for warehousing/distribution activities for a variety of products. The application is not requesting any magnet sites or subzones/usage-driven sites at this time. Specific production approvals are not being sought at this time. Such requests would be made to the FTZ Board on a case-by-case basis.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is April 29, 2019. Rebuttal comments in response to material submitted during the foregoing period may be submitted during the subsequent 15-day period to May 13, 2019.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Christopher Kemp at Christopher.Kemp@trade.gov or (202) 482-0862.

Dated: February 21, 2019.
Andrew McGilvray,
Executive Secretary.

[FR Doc. 2019-03425 Filed 2-26-19; 8:45 am]

BILLING CODE 3510-DS-P